DEPARTMENT OF THE TREASURY

Internal Revenue Service

26 CFR Part 1

[REG-132634-14]

RIN 1545-BM43

Qualifying Income From Activities of Publicly Traded Partnerships With Respect to Minerals or Natural Resources; Correction

AGENCY: Internal Revenue Service (IRS), Treasury.

ACTION: Proposed rule; Correction.

SUMMARY: This document contains corrections to a notice of proposed rulemaking (REG-132634-14) that was published in the Federal Register on Wednesday, May 6, 2015 (80 FR 25970). The proposed rules provide guidance on qualifying income from exploration, development, mining or production, processing, refining, transportation, and marketing of minerals or natural resources.

DATES: Written or electronic comments and requests for a public hearing for the notice of proposed rulemaking published at 80 FR 25970, May 6, 2015 are still being accepted and must be received by August 4, 2015.

ADDRESSES: Send submissions to: CC:PA:LPD:PR (REG-132634-14), Room 5203, Internal Revenue Service, P.O. Box 7604, Ben Franklin Station, Washington, DC 20044. Submissions may be hand-delivered Monday through Friday between the hours of 8 a.m. and 4 p.m. to CC:PA:LPD:PR (REG-132634-14), Courier's Desk, Internal Revenue Service, 1111 Constitution Avenue NW., Washington, DC, or sent electronically, via the Federal eRulemaking Portal at www.regulations.gov (IRS REG-132634-14). FOR FURTHER INFORMATION CONTACT: Caroline E. Hay at (202) 317-5279 (not a toll free number).

SUPPLEMENTARY INFORMATION:

Background

The notice of proposed rulemaking (REG-132634-14) that is the subject of these corrections is under section 7704(d)(1)(E) of the Internal Revenue Code.

Need for Correction

As published in the Federal Register on Wednesday, May 6, 2015 (80 FR 25970), the notice of proposed rulemaking (REG-132634-14) contains errors that may prove to be misleading and are in need of clarification.

Correction of Publication

Accordingly, the notice of proposed rulemaking (REG-132634-14), that was the subject of FR Doc. 2015-10592, is corrected as follows:

1. On page 25972, in the preamble, first column, under paragraph heading “D. Processing or Refining”, sixteenth line from the bottom of the first paragraph, the language “with Rev. Rul. 87-56 (1987-2 CB 27)” is corrected to read “with Rev. Proc. 87-56 (1987-2 CB 674)”.

§ 1.7704-4 [Corrected]

2. On Page 25975, first column, the fifteenth and sixteenth lines of paragraph (c)(5)(i), the language “activity in accordance with Rev. Rul. 87-56, 1987-2 CB 27 (see” is corrected to read “activity in accordance with Rev. Proc. 87-56, 1987-2 CB 674 (see”.

Martin V. Franks,
Chief, Publications and Regulations Branch, Legal Processing Division, Associate Chief Counsel (Procedure and Administration).

[FR Doc. 2015-14467 Filed 6-17-15; 8:45 am]

BILLING CODE 4830-01-P